DEPARTMENT OF HOMELAND SECURITY

Senior Executive Service Performance Review Board

AGENCY: Office of the Secretary, Department of Homeland Security.

ACTION: Notice.

SUMMARY: This notice announces the appointment of the members of the Senior Executive Service (SES) Performance Review Boards (PRBs) for the Department of Homeland Security (DHS). The purpose of the PRBs is to review and make recommendations concerning performance appraisals, ratings, performance awards, pay adjustments, and other appropriate personnel actions for incumbents of SES, Senior Level (SL), and Scientific and Professional (ST) positions of the Department.

DATES: This Notice is effective as of October 10, 2019.

FOR FURTHER INFORMATION CONTACT: Stephen McDermid, Office of the Chief Human Capital Officer, stephen.mcdermid@hq.dhs.gov, or by telephone (202) 357-8461.

SUPPLEMENTARY INFORMATION: Each Federal agency is required to establish one or more performance review boards to make recommendations, as necessary, regarding the performance of senior executives within the agency (5 U.S. Code § 4314(c) and 5 CFR 430.311). This notice announces the appointment of the members of the PRB for DHS. The purpose of the PRB is to review and make recommendations concerning proposed performance appraisals, ratings, performance awards, and pay adjustments, and other appropriate personnel actions for incumbents of SES, SL, and ST positions within DHS.

The Board shall consist of at least three members. In the case of an appraisal of a career appointee, more than half of the members shall consist of career appointees. Composition of the specific PRBs will be determined on an ad hoc basis from among the individuals listed below:

List of Names (Alphabetical Order)

Albence, Matthew T.

Alfonso-Royals, Angelica M.

Allen, Matthew C.

Alles, Randolph D.

Anderson, Rose J.

Anderson, Sandra D.

Annan, Niccomedo S.

Archambeault, Gregory J.

Arratia, Juan

Arvelo, Ivan J.

Asher, Nathalie R.

Auletta, Laura

Austin, Meredith L.

Awni, Muhammad H.

Bailey, Angela

Baker, Jeremy D.

Baker, Paul E.

Baran, Kathy A.

Baroukh, Nader

Barrera, Staci A.

Barrett, Lawrence R.

Barsa, John

Beagles, James M.

Bean, Bridget E.

Beckman, Paul G.

Bench, Bradford A.

Benner, Derek N.

Berg, Peter B.

Berger, Katrina W.

Bester-Markowitz, Margot

Bhagowalia, Sanjeev

Bible, Daniel A.

Blessey, Caroline

Blume, Mark A.

Blumenthal, Jennifer Sultan

Bobb, Christina

Bobich, Jeffrey M.

Borgen, Michael R.

Borkowski, Mark S.

Bottom, David

Bowes, Lee F.

Boyd, John

Boyer, Stephen A.

Bright, Andrea J.

Brown, A. Scott

Browne, Rene E.

Bruce, Melissa J.

Brundage, William

Bryan, C. Michelle

Bryan, William N.

Bryson, Tony R.

Brzozowski, Christa M.

Bucholtz, Kathleen L.

Bunker, Michael D.

Burns, Robert P.

Busch, Philip

Bush, William B.

Butt, Mark

Cagen, Steven W.

Caggiano, Marshall L.

Cahill, Donna L.

Caine, Jeffrey

Calkins, Aaron L.

Cameron, Michael K.

Campagnolo, Donna P.

Caneva, Duane

Cantor, Jonathan R.

Canty, Rachel E.

Cappello, Elizabeth A.

Carpio, Philip F.

Carraway, Melvin J.

Castro, Raul M.

Chaleki, Thomas D.

Cheatle, Kimberly A.

Cheng, Wen-Ting

Ciccone, Christine

Clark, Kenneth N.

Cleary Stannard, Jennifer S.

Clift, William

Cline, Richard K.

Collins, James L.

Conklin, Jeffery A.

Contreras, Patrick D.

Cormier, Tracy J.

Correa, Soraya

Cotter, Daniel

Coultas, Tonya D.

Courey, Marc B.

Cowan, Robert M.

Cox, Adam

Cox, Debra S.

Crandall, Kristine R.

Cribbs, Carol

Cronen, Christopher M.

Crumpacker, Jim H.

Cupp, Mary E.

Curda, Susan M.

Dainton, Albert J.

D'Ambrosio, Michael R.

Davidson, Andrew J.

Davidson, Michael J.

Davis, Diana L.

Davis, Michael J.

Dawson, Inga I.

Dawson, Mark B.

Decker, Thomas R.

Dedvukaj, Mirash

Delaney, Laura A.

Delgado, Jose L.

Dembling, Ross W.

DeNayer, Larry C.

Denton, David L.

DeStefano, Ernest

DiFalco, Frank J.

Dinh, Uyen

DiPietro, Joseph R.

Dolan, Edward

Dolan, Mark E.

Dornburg, Erica M.

Dorow, Brian

Dossie, Susie L.

Dougherty, Michael

Dougherty, Thomas E.

Dugan, Moises S.

Dunbar, Susan C.

Duong, Anh N.

Duquette, Amanda K.

Ederheimer, Joshua A.

Edlow, Joseph B.

Edwards, B. Roland

Emrich, Matthew D.

Erichs, Alysa D.

Evetts, Mark V.

Falk, Scott K.

Fallon, William T.

Farmer, Robert A.

Feeley, Thomas E.

Feere, Jon D.

Felker, John M.

Fenton, Jennifer M.

Ferrara, William A.

Filipponi, Karen B.

Fischer, John W.

Fishman, George

Fitzhugh, Peter C.

Fitzmaurice, Stacey D.

Fletcher, Kelly

Flores Lund, Simona L.

Flory, Gillian

Folden, Shane M.

Francis, Steve K.

Frazier, Denise M.

Frazier, Sterling T.

Fujimura, Paul N.

Gabbrielli, Tina

Gallihugh II, Ronald B.

Gantt, Kenneth D.

Gersten, David

Gibbons, James M.

Gibbs, Michael D.

Gladwell, Angela R.

Glawe, David J.

Grable, Samuel D.

Gramlick, Carl S.

Grazzini, Christopher

Gregorius, James R.

Groom, Molly M.

Guzman, Nicole G.

Hall, Christopher J.

Hall, Daniel F.

Hampton, Stephanie L.

Hanna, Matthew L.

Harris, Joseph

Harris, Melvin

Harris, Steven E.

Hatch, Peter

Havranek, John F.

Hayden, William

Heinz, Todd W.

Hentz, Andre

Hess, David A.

Hewitt, Ronald T.

Hickey, Gary

Higgins, Jennifer B.

Highsmith, AnnMarie

Hill, John

Hochman, Kathleen T.

Hoefer, Michael D.

Holtermann, Keith

Holzer, James

Horton, Michael G.

Houser, David

Howard, Tammy

Howard Jr., Percy L.

Huffman, Benjamine C.

Humphries, Robert H.

Huron, Diana

Hutchison, Steven J.

Ileto, Carlene

Jackson, Arnold D.

Jacksta, Linda L.

James, Michele L.

Jansson, Scott W.

Jennings, David W.

Jeronimo, Jose M.

Johnson, James V.

Johnson, Jo Linda

Johnson, Tae D.

Joseph, James K.

Kaplan, Philip

Kaufman, Steven

Kelly, Kevin M.

Kendall, Sarah M.

Kerner, Francine

King, Matthew H.

King, Tatum S.

Kirchner, Julie

Klein, Matthew

Klopp, Jacalynne B.

Kohl, David M.

Kolbe, Kathryn

Kopel, Richard S.

Koumans, Marnix R.A.

Kramar, John

Kronisch, Matthew L.

Kruger, Mary

Kuepper, Andrew

Kuhn, Karen A.

Lafferty, John L.

LaJoye, Darby R.

Landfried, Philip A.

Lang, Thresa

Lanum, Scott F.

Laurance, Stephen A.

Lechleitner, Patrick J.

Leckey, Eric M.

Letowt, Philip J.

Lew, Kimberly D.

Lewis, Donald R.

Loiacono, Adam V.

Lucero, Enrique M.

Lundgren, Karen E.

Lynch, Jeffrey D.

Lynch, Steven M.

Lyon, Shonnie R.

Macias, Joseph

Magrino, Christopher

Maher, Joseph B.

Manaher, Colleen M.

Mapar, Jalal

Marcott, Stacy

Marin, David A.

Martin, Joseph F.

McCament, James W.

McComb, Richard

McDermott, Thomas

McDonald, Christina E.

McDonnell, James F.

McElhaney, William S.

McElwain, Patrick J.

McLane, JoAnn

Meckley, Tammy M.

Michael, Brian A.

Miles, Jere T.

Miles, John D.

Miller, Loren K.

Miller, Marlon V.

Mizelle, Chad

Mocny, Robert

Moman, C. Christopher

Moncarz, Benjamin D.

Moncayo, E. Erik

Moore, Mark J.

Moses, Patrick D.

Moss, Rita J.

Mulligan, George D.

Murphy, Brian J.

Murray, James M.

Muzyka, Carolyn L.

Nally, Kevin J.

Nelson, Mickey

Neufeld, Donald W.

Neumann, Elizabeth

Neumeister, James

Nevano, Gregory C.

Newsome III, Leonza

Nuebel Kovarik, Kathy

Nunan, Joanna M.

Ondocin, Michael A.

Owen, Todd C.

Padilla, Kenneth

Palmer, David J.

Paramore, Faron K.

Parker, Debra F.

Paschall, Robert D.

Patel, Kalpesh A.

Patterson, Leonard E.

Paul, Kshemendra

Perazzo, Stephen F.

Perez, Nelson

Perez, Robert E.

Perryman, Janet J.

Piccone, Colleen C.

Pietropaoli, Lori A.

Pineiro, Marlen

Podonsky, Glenn S.

Pohlman, Teresa R.

Porto, Victoria

Price, Corey A.

Prince, David A.

Prosnitz, Susan M.

Provost, Carla L.

Quinn, Cameron

Rabin, John L.

Raymond, John J.

Renaud, Daniel M.

Renaud, Tracy L.

Rexrode, Kathryn S.

Richardson, Gregory A.

Ries, Lora L.

Riordan, Denis C.

Robbins, Timothy S.

Robinson, Terri A.

Rodi III, Louis A.

Rodriguez, Waldemar

Roessler, John E.

Rogers, Debra A.

Roncone, Stephen A.

Rosenberg, Ronald M.

Rosenblum, Marc R.

Roth, Aaron E.

Roy, Donna M.

Ruppel, Joanna

Rynes, Joel C.

Sahakian, Diane V.

Salazar, Rebecca A.

Salazar, Ronald M.

Saltalamachea, Michael

Salvano-Dunn, Dana

Saunders, Ian C.

Scott, Kika M.

Selby, Cara M.

Sellers, Frederick E.

Sevier, Adrian

Seymour, Donna K.

Shah, Dimple

Shaw, David C.

Short, Tracy L.

Short, Victoria D.

Sibley, Matthew W.

Sloan, Terry G.

Smislova, Melissa

Smith, Brenda B.

Smith, Frederick B.

Smith, Stewart D.

Spero, James

Spradlin, Ryan L.

Staton, Jack P.

Stephens, Celisa M.

Stiefel, Nathaniel I.

Stough, Michael S.

Sulc, Brian

Sutherland, Dan W.

Swain, Donald R.

Swartz, Neal J.

Sykes, Gwendolyn

Taylor, Clothilda

Taylor, Robin M.

Teeple, Brian

Thompson, John E.

Thompson, Kirt

Tomney, Christopher J.

Travis, Matthew K.

Ulrich II, Dennis A.

Valverde, Michael

Van Houten, Ann

Velarde, Barbara Q.

Venture, Veronica

Villanueva, Raymond

Wade, David S.

Wagner, John P.

Wallen, Steven

Walters, Thomas J.

Walton, Kimberly H.

Ware, Bryan S.

Wasowicz, John A.

Watkins, Tracey

Watson, Andre R.

Whalen, Mary Kate

Wheaton, Kelly D.

Whittenburg, Cynthia F.

Wolf, Chad

Wong, Ricardo A.

Wong, Sharon M.

Wonnenberg, David

Wright, Christopher J.

Wuco, Frank

Yarwood, Susan A.

Young, Edward E.

Zangardi, John A.

Zuckowski, Laura B.

Dated: October 2, 2019.
Greg Ruocco,
Manager, Executive Resources Policy, Office of the Chief Human Capital Officer.

[FR Doc. 2019-22155 Filed 10-9-19; 8:45 am]

BILLING CODE 9112-FC-P